DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before March 8, 2019.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on February 1, 2019.
Donald P. Burger,
Chief, General Approvals and Permits Branch.

Special Permits Data—Granted
Application No. | Applicant | Regulation(s) Affected | Nature of the special permits thereof
14857-M | WESTERN SALES & TESTING OF AMARILLO INC | 180.209(a), 180.209(b) | To modify the special permit to authorize additional hazmat, editorial changes to CGA neck thread inspection procedures and edit incorrect link to DOT referenced procedure.
20796-M | SODASTREAM USA, INC. | 172.400, 172.200, 172.300 | To modify the special permit to bring it in line with other Sodastream cylinder permits.

Special Permits Data—Withdrawn
Application No. | Applicant | Regulation(s) Affected | Nature of the special permits thereof
20827-N | Department of Defense, U.S. Special Operations Command | 173.185(a) | To authorize the transportation in commerce of spacecraft containing low production lithium ion batteries via air transportation.

[FR Doc. 2019-01295 Filed 2-5-19; 8:45 am]

BILLING CODE 4909-60-P